SECURITIES AND EXCHANGE COMMISSION

[File No. 500-1]

In the Matter of: Apponline.Com, Inc.; Condor Gold Corp.; EPL Technologies, Inc.; General Credit Corp.; Integra, Inc.; Integrated Health Services, Inc.; Log On America, Inc.; Matlack Systems, Inc.; Pixtech, Inc.; and Virtual Communities, Inc.; Order of Suspension of Trading

November 17, 2009.

It appears to the Securities and Exchange Commission that there is a lack of current and accurate information concerning the securities of Apponline.Com, Inc. because it has not filed any periodic reports since the period ended March 31, 2000.

It appears to the Securities and Exchange Commission that there is a lack of current and accurate information concerning the securities of Condor Gold Corp. because it has not filed any periodic reports since the period ended August 31, 2002.

It appears to the Securities and Exchange Commission that there is a lack of current and accurate information concerning the securities of EPL Technologies, Inc. because it has not filed any periodic reports since the period ended September 30, 2001.

It appears to the Securities and Exchange Commission that there is a lack of current and accurate information concerning the securities of General Credit Corp. because it has not filed any periodic reports since the period ended September 30, 2001.

It appears to the Securities and Exchange Commission that there is a lack of current and accurate information concerning the securities of Integra, Inc. because it has not filed any periodic reports since the period ended March 31, 2002.

It appears to the Securities and Exchange Commission that there is a lack of current and accurate information concerning the securities of Integrated Health Services, Inc. because it has not filed any periodic reports since the period ended September 30, 2000.

It appears to the Securities and Exchange Commission that there is a lack of current and accurate information concerning the securities of Log On America, Inc. because it has not filed any periodic reports since the period ended December 31, 2001.

It appears to the Securities and Exchange Commission that there is a lack of current and accurate information concerning the securities of Matlack Systems, Inc. because it has not filed any periodic reports since the period ended March 31, 2001.

It appears to the Securities and Exchange Commission that there is a lack of current and accurate information concerning the securities of Pixtech, Inc. because it has not filed any periodic reports since the period ended September 30, 2001.

It appears to the Securities and Exchange Commission that there is a lack of current and accurate information concerning the securities of Virtual Communities, Inc. because it has not filed any periodic reports since the period ended September 30, 2000.

The Commission is of the opinion that the public interest and the protection of investors require a suspension of trading in the securities of the above-listed companies. Therefore, it is ordered, pursuant to Section 12(k) of the Securities Exchange Act of 1934, that trading in the securities of the above-listed companies is suspended for the period from 9:30 a.m. EST on November 17, 2009, through 11:59 p.m. EST on December 1, 2009.

By the Commission.
Jill M. Peterson,
Assistant Secretary.

[FR Doc. E9-27892 Filed 11-17-09; 11:15 am]

BILLING CODE 8011-01-P